DEPARTMENT OF THE TREASURY

Bureau of the Fiscal Service

Fee Schedule for the Transfer of U.S. Treasury Book-Entry Securities Held on the Fedwire Securities Service

AGENCY: Bureau of the Fiscal Service, Treasury.

ACTION: Notice.

SUMMARY: The Department of the Treasury (Treasury) is announcing a new fee schedule applicable to transfers of U.S. Treasury book-entry securities maintained on the Fedwire Securities Service (Fedwire) that occur on or after January 3, 2022.

DATES: Effective January 3, 2022.

FOR FURTHER INFORMATION CONTACT: Janeene Wilson, Bureau of the Fiscal Service, 304-480-6321.

SUPPLEMENTARY INFORMATION: Treasury has established a fee structure for the transfer of Treasury book-entry securities maintained on Fedwire. Treasury reassesses this fee structure periodically based on our review of the latest book-entry costs and volumes.

For each Treasury securities transfer or reversal sent or received on or after January 3, 2022, the basic fee will increase from $0.65 to $0.74. The Federal Reserve System also charges a funds movement fee for each of these transactions for the funds settlement component of a Treasury securities transfer.¹ The surcharge for an off-line Treasury book-entry securities transfer will increase from $70.00 to $80.00. Off-line refers to the sending and receiving of transfer messages to or from a Federal Reserve Bank by means other than on-line access, such as by written, facsimile, or telephone voice instruction. The basic transfer fee assessed to both sends and receives is reflective of costs associated with the processing of securities transfers. The off-line surcharge, which is in addition to the basic fee and the funds movement fee, reflects the additional processing costs associated with the manual processing of off-line securities transfers.

¹ The Board of Governors of the Federal Reserve System sets this fee separately from the fees assessed by Treasury. For a current listing of the Federal Reserve System's fees, please refer to https://www.frbservices.org/financial-services/securities/index.html.

Treasury does not charge a fee for account maintenance, the stripping and reconstitution of Treasury securities, the wires associated with original issues, or interest and redemption payments. Treasury currently absorbs these costs.

The fees described in this notice apply only to the transfer of Treasury book-entry securities held on Fedwire. Information concerning fees for book-entry transfers of Government Agency securities, which are priced by the Federal Reserve, is set out in a separate Federal Register notice published by the Federal Reserve.

The following is the Treasury fee schedule that will take effect on January 3, 2022, for book-entry transfers on Fedwire:

Treasury-Fedwire Fee Schedule Effective January 3, 2022
[In dollars]
| Fee
Basic Transfer Origination | 0.74
Basic Transfer Received | 0.74
Basic Reversal Origination | 0.74
Basic Reversal Received | 0.74
Off-line Origination and Receipt Surcharge | 80.00

Authority: 31 CFR 357.45.

Timothy E. Gribben,
Commissioner, Bureau of the Fiscal Service.

[FR Doc. 2021-24936 Filed 11-15-21; 8:45 am]

BILLING CODE 4810-AS-P